DEPARTMENT OF ENERGY

Federal Energy Regulatory Commission

[Docket No. CP19-26-000]

Dominion Energy Transmission, Inc.; Notice of Schedule for Environmental Review of the West Loop Project

On December 18, 2018, Dominion Energy Transmission, Inc. (DETI) filed an application in Docket No. CP19-26-000 requesting a Certificate of Public Convenience and Necessity pursuant to Section 7(c) of the Natural Gas Act to construct and operate certain natural gas pipeline facilities. The proposed project is known as the West Loop Project (Project), and would provide 150,000 dekatherms per day of natural gas to a new power plant that is being built in Columbiana County, Ohio to replace retiring coal-fired power and help meet the increasing demand for electricity in the Midwest.

On December 31, 2018, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA May 28, 2019

90-day Federal Authorization Decision Deadline August 26, 2019

If a schedule change becomes necessary, additional notice will be provided so that the relevant agencies are kept informed of the Project's progress.

Project Description

The West Loop Project consists of 5.1 miles of natural gas pipeline loop in Beaver County, Pennsylvania; modifications at two existing compressor stations in Beaver County Pennsylvania and Carroll County, Ohio; and other appurtenant facilities at existing aboveground facilities in Beaver and Lawrence Counties, Pennsylvania.

Background

On January 9, 2019, the Commission issued a Notice of Intent to Prepare an Environmental Assessment for the Proposed West Loop Project and Request for Comments on Environmental Issues (NOI). The NOI was sent to affected landowners; federal, state, and local government agencies; elected officials; environmental and public interest groups; Native American tribes; other interested parties; and local libraries and newspapers. No comments have been received.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and “Docket Number” excluding the last three digits (i.e., CP19-26), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: March 14, 2019.
Kimberly D. Bose,
Secretary.

[FR Doc. 2019-05203 Filed 3-19-19; 8:45 am]

BILLING CODE 6717-01-P